DEPARTMENT OF HEALTH AND HUMAN SERVICES

Centers for Disease Control and Prevention

[30Day-09-09BH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Assessing the Safety Culture of Underground Coal Mining—New—National Institute for Occupational Safety and Health, (NIOSH), Centers for Disease Control and Prevention, (CDC).

Background and Brief Description

NIOSH, under Public Law 91-596, (Section 20-22, Occupational Safety and Health Act of 1970) has the responsibility to conduct research relating to innovative methods, techniques, and approaches dealing with occupational safety and health problems.

This research relates to occupational safety and health problems in the coal mining industry. In recent years, coal mining safety has attained national attention due to highly publicized disasters. Despite these threats to worker safety and health, the U.S. relies on coal mining to meet its electricity needs. For this reason, the coal mining industry must continue to find ways to protect its workers while maintaining productivity. One way to do so is through improving the safety culture at coal mines. In order to achieve this culture, operators, employees, the inspectorate, etc. must share a fundamental commitment to it as a value. This type of culture is known in other industries as a “safety culture.” Safety culture can be defined as the characteristics of the work environment, such as the norms, rules, and common understandings that influence employees' perceptions of the importance that the organization places on safety.

NIOSH proposes an assessment of the current safety culture of underground coal mining in order to identify recommendations for promoting and ensuring the existence of a positive safety culture across the industry. A total of 6 underground coal mines will be studied for this assessment in an attempt to study mines of different characteristics. It is hoped that a small, a medium and a large unionized as well as non-unionized mines will participate. Data will be collected one time at each mine; this is not a longitudinal study. The assessment includes the collection of data using several diagnostic tools: (a) Functional analysis, (b) structured interviews, (c) behavioral observations, and (d) surveys.

It is estimated that across the 6 mines approximately 900 respondents will be surveyed. Similarly the number of interviews will be based upon the number of individuals in the mine population. An exact number of participants is unavailable at this time because not all mine sites have been selected.

The use of multiple methods to assess safety culture is a key aspect to the methodology. After all of the information has been gathered, a variety of statistical and qualitative analyses are conducted on the data to obtain conclusions with respect to the mine's safety culture. The results from these analyses will be presented in a report describing the status of the behaviors important to safety culture at that mine.

This project will provide recommendations for the enactment of new safety practices or the enhancement of existing safety practices across the underground coal mining industry. This final report will present a generalized model of a positive safety culture for underground coal mines that can be applied at individual mines. In addition, all study measures and procedures will be available for mines to use in the future to evaluate their own safety cultures. There is no cost to respondents other than their time. The total estimated annualized burden hours are 480.

Estimated Annualized Burden Hours
Phase | Type of respondents | Number of respondents | Number of responses per respondent | Average burden per response (in hours)
Year one Survey | Mine Employees | 500 | 1 | 20/60
Year one Interviews | Mine Employees | 100 | 1 | 1
Year two Survey | Mine Employees | 400 | 1 | 20/60
Year two Interviews | Mine Employees | 80 | 1 | 1

Date: September 9, 2009.
Maryam I. Daneshvar,
Acting Reports Clearance Officer, Centers for Disease Control and Prevention.

[FR Doc. E9-22373 Filed 9-16-09; 8:45 am]

BILLING CODE 4163-18-P